DEPARTMENT OF TRANSPORTATION

National Highway Traffic Safety Administration

[Docket No. NHTSA-2023-0007]

National Emergency Medical Services Advisory Council; Solicitation of Applications

AGENCY: National Highway Traffic Safety Administration (NHTSA), U.S. Department of Transportation (DOT).

ACTION: Solicitation of applicants for appointment to the National Emergency Medical Services Advisory Council (NEMSAC).

SUMMARY: NHTSA is soliciting applications for appointment to the DOT's NEMSAC. The purpose of NEMSAC is to serve as a nationally recognized council of Emergency Medical Services (EMS) representatives and consumers to provide advice and recommendations regarding EMS to DOT. Through NHTSA, NEMSAC's advice is provided to the Federal Interagency Committee on EMS (FICEMS).

DATES: Applications for membership must be received by NHTSA on or before 5 p.m. EST, April 13, 2023.

ADDRESSES: If you wish to apply for membership, your application should be submitted to:

• Email: NEMSAC@dot.gov.

• Mail: Use only overnight mail such as UPS or FedEx to: U.S. Department of Transportation, National Highway Traffic Safety Administration, Office of Emergency Medical Services, Attn: NEMSAC c/o Clary Mole, 1200 New Jersey Avenue SE, NPD 400, W44-321, Washington, DC 20590.

Additional information on NEMSAC, including the current roster, charter, and previous meeting minutes can be found at: https://www.ems.gov/nemsac.html.

FOR FURTHER INFORMATION CONTACT: Clary Mole, EMS Specialist, National Highway Traffic Safety Administration, U.S. Department of Transportation, Clary.Mole@dot.gov or 202-868-3275. Any committee related questions should be sent to the person listed in this section.

SUPPLEMENTARY INFORMATION:

Background: NEMSAC is an advisory council established by DOT in accordance with the provisions of the Federal Advisory Committee Act, Public Law 92-463, as amended (5 U.S.C. App.) and DOT Order 1120.3C. NEMSAC provides information, advice, and recommendations to the Secretary via the Administrator of NHTSA, and through NHTSA to FICEMS on matters relating to all aspects of development and implementation of EMS.

Description of Duties: NEMSAC is authorized to:

a. Perform EMS needs assessments and gap analyses to discover issues with national significance, consider findings to develop statements regarding EMS issues, formulate positions on these issues, and make recommendations on such issues for the Secretary of Transportation and/or FICEMS through the NHTSA Office of EMS.

NEMSAC provides recommendations or advice relating to EMS on topics such as:

• Expanded use of the National EMS Information System (NEMSIS)—the database used to store EMS data from the U.S. states and territories

• Use of NEMSIS for applied research and development of standards, guidelines, and performance benchmarks that are evidence-based

• Development of federal programs that will both improve coordination among federal agencies supporting local, regional, state, tribal and territorial EMS and 911 systems and improve the delivery of EMS throughout the nation

• National EMS system quality improvement projects and programs that will strengthen the resiliency of EMS systems into one that is inherently more adaptable, innovative, equitable, integrated, prepared, sustainable, and safe

• Enhancements that promote the strengthen and increase medical and operational education, professional development, safety, diversity, recruitment, retention, use of technology, healthcare system data linkages, etc.

b. Respond to requests for consultation on EMS issues from the Secretary of Transportation and/or from FICEMS through the NHTSA Office of EMS.

c. Prepare an annual report to be sent to the Secretary of Transportation, the Secretary of Health and Human Services, and Secretary of Homeland Security, and to FICEMS, which summarizes NEMSAC's actions and recommendations.

Membership: In accordance with the NEMSAC charter, members should represent a cross-section of the diverse agencies, organizations, and individuals involved in EMS activities and programs in the United States. NEMSAC consists of 25 members, each of whom shall be appointed by the Secretary of Transportation, in coordination with the U.S. Departments of Homeland Security and Health and Human Services through their respective representatives on FICEMS. The NEMSAC members shall collectively be representative of all sectors of the EMS community. The NEMSAC's broad-based membership will ensure that it has sufficient EMS system expertise and geographic and demographic diversity to accurately reflect the whole EMS community. Representatives will be selected on the basis of materials submitted and in a manner that ensured equal opportunity for all people and avoided discrimination on the basis of race, color, religion, sex, gender identity, sexual orientation, national origin, disability or age.

Moreover, selection will be undertaken in a manner that encourages participation by members of underrepresented and underserved communities in accordance with Presidential Executive Order 13985. To the extent practical, the final NEMSAC membership shall ensure representation from the following sectors of the EMS community:

• Volunteer EMS

• Fire-based (career) EMS

• Private (career non-fire) EMS

• Hospital-based EMS

• Tribal EMS

• Air Medical EMS

• Local EMS service directors/administrators

• EMS Medical Directors

• Emergency Physicians

• Trauma Surgeons

• Pediatric Emergency Physicians

• State EMS Directors

• State Highway Safety Directors

• EMS Educators

• Public Safety Call-taker/Dispatcher (911)

• EMS Data Managers

• EMS Quality Improvement

• EMS Researchers

• Emergency Nurses

• Hospital Administration

• Public Health

• Emergency Management

• EMS Practitioners

• Consumers (not directly affiliated with an EMS or healthcare organization)

• State or local legislative bodies (e.g., city/county councils; state legislatures)

Members serve in a “representative” capacity on NEMSAC and not as Special Government Employees. The Secretary of Transportation shall appoint each member for up to a 2-year term and members may be reappointed but may not serve more than two consecutive terms unless the Secretary determines that additional terms are permitted to ensure representation of all sectors of EMS. NEMSAC members will not receive pay or other compensation from NHTSA for their NEMSAC service, but are entitled to reimbursement of their travel expenses, including per diem. The NEMSAC meets in plenary session approximately three to four times per year.

Qualifications: Members will be selected for their ability to reflect a balanced representation of interests from across the EMS community, but no member will represent a specific organization.

Vacancies: NEMSAC is seeking to fill the following EMS sector representative vacancies:

• Fire-based EMS

• Private EMS

Materials to Submit: Qualified individuals interested in serving on the NEMSAC are invited to apply for appointment by submitting the following materials to one of the locations listed in the ADDRESSES section by the deadline listed in the DATES section:

• Resume or Curriculum Vitae (CV) containing the applicants full name, title, home address, phone number, email address.

• At least two (2) but no more than four (4) letters of recommendation from a company, association, organization, or individual on letterhead containing a brief description of why the applicant should be considered for appointment.

• A letter of interest which identifies the EMS sector the applicant seeks to represent and contains an attestation statement indicating that the applicant is not a registered federal lobbyist and an understanding that as a government representative the applicant may not concurrently serve as registered federal lobbyists.

Each applicant must submit the required materials to the person listed in the FOR FURTHER INFORMATION CONTACT section by the deadline. Nominees for appointment will be selected on the basis of materials submitted and in a manner that ensures equal opportunity for all people and avoids discrimination on the basis of race, color, religion, sex, gender identity, sexual orientation, national origin, disability or age; however, selection will be undertaken in a manner that encourages participation by members of underrepresented and underserved communities in accordance with Presidential Executive Order 13985.

Authority: 42 U.S.C. 300d-4(b); 49 CFR 1.95(i)(4).

Issued in Washington, DC.
Nanda Narayanan Srinivasan,
Associate Administrator, Research and Program Development.

[FR Doc. 2023-04321 Filed 3-1-23; 8:45 am]

BILLING CODE 4910-59-P